Executive Order 14272 of April 15, 2025

Ensuring National Security and Economic Resilience Through Section 232 Actions on Processed Critical Minerals and Derivative Products

By the authority vested in me as President by the Constitution and the laws of the United States of America, including the Trade Expansion Act of 1962, as amended (19 U.S.C. 1862) (the “Act”), it is hereby ordered:

Section 1. Policy. A strong national defense depends on a robust economy and price stability, a resilient manufacturing and defense industrial base, and secure domestic supply chains. Critical minerals, including rare earth elements, in the form of processed minerals are essential raw materials and critical production inputs required for economic and national security. Critical mineral oxides, oxalates, salts, and metals (processed critical minerals), as well as their derivative products—the manufactured goods incorporating them—are similarly foundational to United States national security and defense.

But processed critical minerals and their derivative products face significant global supply chain vulnerabilities and market distortions due to reliance on a small number of foreign suppliers. These vulnerabilities and distortions have led to significant United States import dependencies. The dependence of the United States on imports and the vulnerability of our supply chains raises the potential for risks to national security, defense readiness, price stability, and economic prosperity and resilience.

Processed critical minerals and their derivative products are essential for economic security and resilience because they underpin key industries, drive technological innovation, and support critical infrastructure vital for a modern American economy. They are key building blocks of our manufacturing base and foundational to sectors ranging from transportation and energy to telecommunications and advanced manufacturing. These economic sectors are, moreover, foundational to America's national security.

Processed critical minerals and their derivative products are essential for national security because they are foundational to military infrastructure, energy infrastructure, and advanced defense systems and technologies. They are key building blocks of our defense industrial base and integral to applications such as jet engines, missile guidance systems, advanced computing, radar systems, advanced optics, and secure communications equipment.

The United States manufacturing and defense industrial bases remain dependent on foreign sources for processed critical mineral products. Many of these foreign sources are at risk of serious, sustained, and long-term supply chain shocks. Should the United States lose access to processed critical minerals from foreign sources, the United States commercial and defense manufacturing base for derivative products could face significant shortages and an inability to meet demand.

Associated risks arise from a variety of factors. First, global supply chains are prone to disruption from geopolitical tensions, wars, natural disasters, pandemics, and trade conflicts.

Second, major global foreign producers of processed critical minerals have engaged in widespread price manipulation, overcapacity, arbitrary export restrictions, and the exploitation of their supply chain dominance to distort world markets and thereby gain geopolitical and economic leverage over the United States and other competitors that depend on processed critical minerals to manufacture derivative products essential to their economic and national security and national defense. Therefore, the import dependence of the United States on processed critical minerals from foreign sources may pose a serious national security risk to the United States economy and defense preparedness.

Third, the risks arising from America's import dependence on processed critical minerals also extend to derivative products that are integral to the United States economy and economic and national security. For the United States to manufacture derivative products, it must have ready access to an affordable, resilient, and sustainable supply of processed critical minerals. Simultaneously, a resilient and sustainable manufacturing base for derivative products is vital to creating a stable demand base for processed critical minerals. Both must coexist to ensure economic stability and national security.

Finally, overreliance on a small number of geographic regions amplifies the risks posed by geopolitical instability and regional disruptions.

In light of the above risks and realities, an investigation under section 232 of the Act (section 232) is necessary to determine whether imports of processed critical minerals and their derivative products threaten to impair national security.

Sec. 2. Definitions. As used in this order:

(a) The term “critical minerals” means those minerals included in the “Critical Minerals List” published by the United States Geological Survey (USGS) pursuant to section 7002(c) of the Energy Act of 2020 (30 U.S.C. 1606) at 87 FR 10381, or any subsequent such list. The term “critical minerals” also includes uranium.

(b) The term “rare earth elements” means the 17 elements identified as rare earth elements by the Department of Energy (DOE) in the April 2020 publication titled “Critical Materials Rare Earths Supply Chain.” The term also includes any additional elements that either the USGS or DOE determines in any subsequent official report or publication should be considered rare earth elements.

(c) The term “processed critical minerals” refers to critical minerals that have undergone the activities that occur after critical mineral ore is extracted from a mine up through its conversion into a metal, metal powder or a master alloy. These activities specifically occur beginning from the point at which ores are converted into oxide concentrates; separated into oxides; and converted into metals, metal powders, and master alloys.

(d) The term “derivative products” includes all goods that incorporate processed critical minerals as inputs. These goods include semi-finished goods (such as semiconductor wafers, anodes, and cathodes) as well as final products (such as permanent magnets, motors, electric vehicles, batteries, smartphones, microprocessors, radar systems, wind turbines and their components, and advanced optical devices).

Sec. 3. Section 232 Investigation. (a) The Secretary of Commerce shall initiate an investigation under section 232 to determine the effects on national security of imports of processed critical minerals and their derivative products.

(b) In conducting the investigation described in subsection (a) of this section, the Secretary of Commerce shall assess the factors set forth in 19 U.S.C. 1862(d), labeled “Domestic production for national defense; impact of foreign competition on economic welfare of domestic industries,” as well as other relevant factors, including:

(i) identification of United States imports of all processed critical minerals and derivative products incorporating such processed critical minerals;

(ii) the foreign sources by percent and volume of all processed critical mineral imports and derivative product imports, the specific types of risks that may be associated with each source by country, and those source countries deemed to be of significant risk;

(iii) an analysis of the distortive effects of the predatory economic, pricing, and market manipulation strategies and practices used by countries that process critical minerals that are exported to the United States, including the distortive effects on domestic investment and the viability of United States production, as well as an assessment of how such strategies and practices permit such countries to maintain their control over the critical minerals processing sector and distort United States market prices for derivative products;

(iv) an analysis of the demand for processed critical minerals by manufacturers of derivative products in the United States and globally, including an assessment of the extent to which such manufacturers' demand for processed critical minerals originates from countries identified under subsections (b)(ii) and (b)(iii) of this section;

(v) a review and risk assessment of global supply chains for processed critical minerals and their derivative products;

(vi) an analysis of the current and potential capabilities of the United States to process critical minerals and their derivative products; and

(vii) the dollar value of the current level of imports of all processed critical minerals and derivative products by total value and country of export.

(c) The Secretary of Commerce shall, consistent with applicable law, proceed expeditiously in conducting the investigation as follows:

(i) Within 90 days of the date of this order, the Secretary of Commerce shall submit for internal review and comment a draft interim report to the Secretary of the Treasury, the Secretary of Defense, the United States Trade Representative, the Assistant to the President for Economic Policy, and the Senior Counselor to the President for Trade and Manufacturing.

(ii) Comments to the Secretary of Commerce from the officials identified in subsection (c)(i) of this section shall be provided within 15 days of submission of the draft interim report described in subsection (c)(i) of this section.

(iii) The Secretary of Commerce shall submit a final report and recommendations to the President within 180 days of the investigation's commencement.

(d) In considering whether to make recommendations for action or inaction pursuant to section 232(b) of the Act (19 U.S.C. 1862(b)), the Secretary of Commerce shall consider:

(i) the imposition of tariffs as well as other import restrictions and their appropriate levels;

(ii) safeguards to avoid circumvention and any weakening of the section 232 measures;

(iii) policies to incentivize domestic production, processing, and recycling; and

(iv) any additional measures that may be warranted to mitigate United States national security risks, as appropriate, under the President's authority pursuant to the International Emergency Economic Powers Act (50 U.S.C. 1701 et seq.).

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 15, 2025.

[FR Doc. 2025-06836

Filed 4-17-25; 8:45 am]

Billing code 3395-F4-P